DEPARTMENT OF VETERANS AFFAIRS

Advisory Committee on Minority Veterans, Notice of Meeting

The Department of Veterans Affairs (VA) gives notice under the Public Law 92-463 (Federal Advisory Committee Act) that a meeting of the Advisory Committee on Minority Veterans will be held in New York City, New York from April 29-May 1, 2014, at the below times and locations:

On April 29, from 9:00 a.m. to 3:00 p.m., at the James J. Peters VA Medical Center, 130 West Kingsbridge Rd., Bronx, New York; 4:00 p.m. to 5:00 p.m., at the Yonkers Community Clinic, 124 New Main St., Yonkers, NY;

On April 30, from 9:00 a.m. to 10:00 a.m., at the Long Island National Cemetery, 2040 Wellwood Ave., Farmingdale, NY; from 12:45 p.m. to 2:00 p.m., at the NY Regional Benefit Office, 245 W Houston St., New York, NY; 4:30 p.m. to 6:30 p.m., conducting a Town Hall Meeting at the Bronx Community College, 2155 University Avenue, Colston Community Hall (lower level), Bronx, NY; and

On May 1, from 8:15 a.m. to 4:45 p.m., at the James J. Peters VA Medical Center, 130 West Kingsbridge Rd., Bronx, NY.

The purpose of the Committee is to advise the Secretary on the administration of VA benefits and services to minority Veterans, to assess the needs of minority Veterans and to evaluate whether VA compensation and pension, medical and rehabilitation services, memorial services outreach, and other programs are meeting those needs. The Committee will make recommendations to the Secretary regarding such activities subsequent to the meeting.

On the morning of April 29 from 9:00 a.m. to 11:30 a.m., the Committee will meet in open session with key staff at the James J. Peters VA Medical Center to discuss services, benefits, delivery challenges, and successes. From 11:30 a.m. to 12:30 p.m., the Committee will convene a closed session in order to protect patient privacy as the Committee tours the VA Medical Center. In the afternoon from 1:30 p.m. to 3:00 p.m., the Committee will reconvene in open session to be briefed by senior Veterans Benefits Administration staff from the NY Regional Benefit Office. The Committee will travel to the Yonkers Community Clinic and will convene a closed session to meet with key staff at the Yonkers Community Clinic in order to protect patient privacy as the Committee tours the facility.

On the morning of April 30 from 9:00 a.m. to 10:00 a.m., the Committee will convene in open session at the Long Island National Cemetery followed by a tour of the cemetery. The Committee will meet with key staff to discuss services, benefits, delivery challenges and successes. In the afternoon from 12:45 p.m. to 2:00 p.m., the Committee will convene a closed session to tour the NY Regional Benefit Office. In the evening, the Committee will hold a Veterans Town Hall meeting at the Bronx Community College, beginning at 4:30 p.m.

On the morning of May 1 from 8:15 a.m. to 12:00 p.m., the Committee will convene in open session at the James J. Peters VA Medical Center to conduct an exit briefing with leadership from the James J. Peters VA Medical Center, New York Regional Benefit Office, and Long Island National Cemetery. In the afternoon, the Committee will convene in open session, from 1:00 p.m. to 4:30 p.m. The Committee will work on drafting recommendations for the annual report to the Secretary.

Portions of these visits are closed to the public in accordance with 5 U.S.C. § 552(c)(6). Exemption 6 permits to Committee to close those portions of a meeting that are likely to disclose information of a personal nature where disclosure would constitute a clearly unwarranted invasion of personal privacy. During the closed sessions the Committee will discuss VA beneficiary and patient information in which there is a clear privacy interest. The disclosure of such information is likely to constitute a clearly unwarranted invasion of the Veteran or beneficiary privacy.

Time will be allocated for receiving public comments on May 1, at 10 a.m. Public comments will be limited to three minutes each. Individuals wishing to make oral statements before the Committee will be accommodated on a first-come first serve basis. Individuals who speak are invited to submit a 1-2 page summaries of their comments at the time of the meeting for inclusion in the official record. The Committee will accept written comments from interested parties on issues outlined in the meeting agenda, as well as other issues affecting minority Veterans. Such comments should be sent to Ms. Juanita Mullen, Advisory Committee on Minority Veterans, Center for Minority Veterans (00M), Department of Veterans Affairs, 810 Vermont Avenue NW., Washington, DC 20420, or email at Juanita.Mullen@va.gov. Because the meeting will be in a Government building, anyone attending must be prepared to show a valid photo ID for checking in. Please allow 15 minutes before the meeting beings for this process. For additional information about the meeting, please contact Ms. Juanita Mullen at (202) 461-6199.

Dated: April 9, 2014.
Jelessa Burney,
Federal Advisory Committee Management Officer.

[FR Doc. 2014-08370 Filed 4-14-14; 8:45 am]

BILLING CODE 8320-01-P